DEPARTMENT OF TRANSPORTATION

Pipeline and Hazardous Materials Safety Administration

[Docket No. PHMSA-2018-0114; Notice No. 2019-04]

Hazardous Materials: Information Collection Activities

AGENCY: Pipeline and Hazardous Materials Safety Administration (PHMSA), Department of Transportation (DOT).

ACTION: Notice and request for comments.

SUMMARY: In accordance with the Paperwork Reduction Act of 1995, this notice announces that the Information Collection Requests (ICRs) discussed below will be forwarded to the Office of Management and Budget (OMB) for renewal and extension. These ICRs describe the nature of the information collections and their expected burdens. A Federal Register notice with a 60-day comment period soliciting comments on these ICRs was published in the Federal Register on February 25, 2019 under Docket No. PHMSA-2018-0114 (Notice No. 2018-24). PHMSA received two comments in response to the February 25, 2019 notice. One comment from Bruce Grimm was supportive of PHMSA continuing to collect information related to subsidiary hazards under OMB control number 2137-0613. The other comment was outside the scope of this notice.

DATES: Interested persons are invited to submit comments on, or before June 10, 2019.

ADDRESSES: Send comments regarding the burden estimate, including suggestions for reducing the burden, by mail to the Office of Information and Regulatory Affairs, Office of Management and Budget, Attention: Desk Officer for DOT-PHMSA, 725 17th Street NW, Washington, DC 20503, by fax, 202-395-5806, or by email, to OIRA_Submission@omb.eop.gov. Comments should refer to the information collection by title and/or OMB Control Number.

We invite comments on: (1) Whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

Docket: For access to the dockets to read background documents or comments received, go to http://www.regulations.gov.

FOR FURTHER INFORMATION CONTACT: Steven Andrews or Shelby Geller, Standards and Rulemaking Division (PHH-10), U.S. Department of Transportation, Pipeline and Hazardous Materials Safety Administration, 1200 New Jersey Avenue SE, East Building, 2nd Floor, Washington, DC 20590-0001, Telephone (202) 366-8553.

SUPPLEMENTARY INFORMATION: Section 1320.8 (d), Title 5, Code of Federal Regulations requires Federal agencies to provide interested members of the public and affected agencies an opportunity to comment on information collection and recordkeeping requests. This notice identifies information collection requests that PHMSA will be submitting to OMB for renewal and extension. These information collections are contained in 49 CFR parts 110, 172, and 173 of the Hazardous Materials Regulations (HMR; 49 CFR parts 171-180). PHMSA has revised burden estimates, where appropriate, to reflect current reporting levels or adjustments based on changes in proposed or final rules published since the information collections were last approved. The following information is provided for each information collection: (1) Title of the information collection, including former title if a change is being made; (2) OMB Control Number; (3) abstract of the information collection activity; (4) description of affected persons; (5) estimate of total annual reporting and recordkeeping burden; and (6) frequency of collection. PHMSA will request a three-year term of approval for each information collection activity and, when approved by OMB, publish notice of the approvals in the Federal Register.

PHMSA requests comments on the following information collections:

Title: Radioactive (RAM) Transportation Requirements.

OMB Control Number: 2137-0510.

Summary: This information collection consolidates and describes the information collection provisions in the HMR involving the transportation of radioactive materials in commerce. Information collection requirements for RAM include: Documenting testing and engineering evaluations for packages, documentation for DOT 7A packages, revalidation of foreign competent authority certifications, providing specific written instruction of exclusive use shipment controls, providing written instructions for exclusive use shipment controls, obtaining U.S. competent authority for package design, registering with U.S. competent authority as user of a package, and request for a U.S. competent authority for special form. The following information collections and their burdens are associated with this OMB Control Number:

Information collection | Respondents | Total annual responses | Hours per response | Total annual burden hours
Document Test and Engineering Evaluation or Comparative Data for Packaging—Reporting | 50 | 100 | 40 | 4,000
DOT Specification 7A Package Documentation—Reporting | 50 | 100 | 80 | 8,000
DOT Specification 7A Package Documentation—Recordkeeping | 50 | 500 | 0.0833 | 41.67
Revalidation of Foreign Competent Authority Certification—Reporting | 25 | 25 | 80 | 2,000
Offeror Providing Specific Written Instruction of Exclusive Use Shipment Controls to the Carrier—Reporting | 100 | 2,000 | 0.5 | 1,000
Offeror Obtaining U.S. Competent Authority for Package Design—Reporting | 10 | 40 | 2 | 80
Register with U.S. Competent Authority as User of a Package—Reporting | 25 | 50 | 0.5 | 25
Request for a U.S. Competent Authority as Required by the IAEA Regulations for Special Form—Reporting | 10 | 100 | 2 | 200

Affected Public: Shippers and carriers of radioactive materials in commerce.

Annual Reporting and Recordkeeping Burden:

Number of Respondents: 320.

Total Annual Responses: 2,915.

Total Annual Burden Hours: 15,347.

Frequency of Collection: On occasion.

Title: Hazardous Materials Public Sector Training and Planning Grants.

OMB Control Number: 2137-0586.

Summary: 49 CFR part 110 sets forth the procedures for reimbursable grants for planning and training in support of the emergency preparedness efforts of States, Indian tribes, and local communities to manage hazardous materials emergencies, particularly those involving transportation. Sections in this part address information collection and recordkeeping with regard to applying for grants, monitoring expenditures, and reporting and requesting modifications. The following information collection and burden is associated with this OMB Control Number:

Information collection | Respondents | Total annual responses | Hours per response | Total annual burden hours
Hazardous Materials Grants Applications | 62 | 62 | 83.23 | 5,160

Affected Public: State and local governments, Indian tribes.

Annual Reporting and Recordkeeping Burden:

Annual Respondents: 62.

Annual Responses: 62.

Annual Burden Hours: 5,160.

Frequency of Collection: On occasion.

Title: Subsidiary Hazard Class and Number/Type of Packagings.

OMB Control Number: 2137-0613.

Summary: The HMR require that shipping papers and emergency response information accompany each shipment of hazardous materials in commerce. In addition to the basic shipping description information, we also require the subsidiary hazard class or subsidiary division number(s) to be entered in parentheses following the primary hazard class or division number on shipping papers. This requirement was originally required only by transportation by vessel. However, the lack of such a requirement posed problems for motor carriers with regard to complying with segregation, separation, and placarding requirements, as well as posing a safety hazard. For example, in the event the motor vehicle becomes involved in an accident, when the hazardous materials being transported include a subsidiary hazard such as “dangerous when wet” or a subsidiary hazard requiring more stringent requirements than the primary hazard, there is no indication of the subsidiary hazards on the shipping papers and no indication of the subsidiary risks on placards. Under circumstances such as motor vehicles being loaded at a dock, labels are not enough to alert hazardous materials employees loading the vehicles, nor are they enough to alert emergency responders of the subsidiary risks contained on the vehicles. Therefore, we require the subsidiary hazard class or subsidiary division number(s) to be entered on the shipping paper, for purposes of enhancing safety and international harmonization.

Shipping papers serve as a principal means of identifying hazardous materials during transportation emergencies. Firefighters, police, and other emergency response personnel are trained to obtain the DOT shipping papers and emergency response information when responding to hazardous materials transportation emergencies. The availability of accurate information concerning hazardous materials being transported significantly improves response efforts in these types of emergencies. The additional information would aid emergency responders by more clearly identifying the hazard.

The following information collection and burden is associated with this OMB Control Number:

Information collection | Respondents | Total annual responses | Seconds per response | Total annual burden hours
Subsidiary Hazard Class on Shipping Papers | 260,000 | 43,810,000 | 2 | 24,339

Affected Public: Shippers and carriers of hazardous materials in commerce.

Annual Reporting and Recordkeeping Burden:

Number of Respondents: 260,000.

Total Annual Responses: 43,810,000.

Total Annual Burden Hours: 24,339.

Frequency of Collection: On occasion.

Issued in Washington, DC, on May 6, 2019.
William S. Schoonover,
Associate Administrator of Hazard Materials Safety, Pipeline and Hazardous Materials Safety Administration.

[FR Doc. 2019-09624 Filed 5-9-19; 8:45 am]

BILLING CODE 4910-60-P